DEPARTMENT OF TRANSPORTATION

Federal Aviation Administration

14 CFR Part 71

[Docket No. FAA-2021-0858; Airspace Docket No. 19-AAL-53]

RIN 2120-AA66

Proposed Establishment of United States Area Navigation (RNAV) Route T-384; Eagle, AK

AGENCY: Federal Aviation Administration (FAA), DOT.

ACTION: Notice of proposed rulemaking (NPRM); withdrawal.

SUMMARY: The FAA is withdrawing the NPRM published in the Federal Register on October 25, 2021, proposing to establish RNAV route T-384 in the vicinity of Eagle, AK, in support of a large and comprehensive T-route modernization project for the state of Alaska. Subsequent to the NPRM, the FAA determined during a flight check inspection that reliable and continuous two-way VHF communications are not possible on the proposed route and withdrawal of the NPRM is warranted.

DATES: As of November 4, 2022, the proposed rule published October 25, 2021 (86 FR 58822), is withdrawn.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a NPRM in the Federal Register for Docket No. FAA-2021-0858 (86 FR 58822; October 25, 2021). The NPRM proposed to establish RNAV route T-384 in support of a large and comprehensive T-route modernization project for the state of Alaska. The proposed T-route would transition the Alaskan enroute navigation structure from dependency on Non-Directional Beacons (NDBs), move to develop and improve the RNAV route structure, and offer routing in an area where published routes do not exist. Interested parties were invited to participate in this rulemaking effort by submitting written comments on the proposal. No comments were received.

However, when the FAA conducted the associated flight inspection activities necessary to establish the proposed T-384, the flight inspection revealed that reliable and continuous two-way VHF communications are not possible on the route

FAA Conclusions

The FAA has reviewed the project to establish T-384 and determined that additional communications facilities are necessary to ensure reliable and continuous two-way VHF communications on the route; therefore, the NPRM proposing to establish T-384 is withdrawn.

List of Subjects in 14 CFR Part 71

Airspace, Incorporation by reference, Navigation (air).

The Withdrawal

Accordingly, pursuant to the authority delegated to me, the NPRM published in the Federal Register on October 25, 2021 (86 FR 58822), FR Doc. 2021-22985, is hereby withdrawn.

Authority: 49 U.S.C. 106(f), 106(g), 40103, 40113, 40120; E.O. 10854; 24 FR 9565, 3 CFR, 1959-1963 Comp., p. 389.

Issued in Washington, DC, on October 26, 2022.
Scott M. Rosenbloom,
Manager, Airspace Rules and Regulations.

[FR Doc. 2022-23615 Filed 11-3-22; 8:45 am]

BILLING CODE 4910-13-P